GENERAL SERVICES ADMINISTRATION

[OMB Control No. 3090-0248; Docket No. 2021-0001; Sequence No. 6]

Information Collection; General Services Administration Acquisition Regulation; Solicitation Provisions and Contract Clauses; Placement of Orders Clause; and Ordering Information Clause

AGENCY: Office of Acquisition Policy, General Services Administration (GSA).

ACTION: Notice of request for public comments regarding an extension to an existing OMB clearance.

SUMMARY: Under the provisions of the Paperwork Reduction Act, the Regulatory Secretariat Division will be submitting to the Office of Management and Budget (OMB) a request to review and approve an extension of a previously approved information collection requirement regarding solicitation provisions and contract clauses, placement of orders clause, and ordering information clause.

DATES: Submit comments on or before: September 21, 2021.

ADDRESSES: Submit comments regarding this burden estimate or any other aspect of this collection of information, including suggestions for reducing this burden to http://www.regulations.gov. Submit comments via the Federal eRulemaking portal by searching for Information Collection 3090-0248. Select the link “Comment Now” that corresponds with “Information Collection 3090-0248, Solicitation Provisions and Contract Clauses, Placement of Orders Clause, and Ordering Information Clause”.

Follow the instructions on the screen. Please include your name, company name (if any), and “Information Collection 3090-0248, Solicitation Provisions and Contract Clauses, Placement of Orders Clause, and Ordering Information Clause” on your attached document.

If your comment cannot be submitted using https://www.regulations.gov, call or email the points of contact in the FOR FURTHER INFORMATION CONTACT section of this document for alternate instructions.

Instructions: Comments received generally will be posted without change to http://www.regulations.gov, including any personal and/or business confidential information provided. To confirm receipt of your comment(s), please check www.regulations.gov, approximately two-to-three days after submission to verify posting.

FOR FURTHER INFORMATION CONTACT: Ms. Vernita Misidor, Procurement Analyst, GSA Acquisition Policy Division, by phone at 202-357-9681 or by email at vernita.misidor@gsa.gov.

SUPPLEMENTARY INFORMATION:

A. Purpose

GSA has various mission responsibilities related to the acquisition and provision of the Federal Acquisition Service's (FAS's) Stock, Special Order, and Federal Supply Schedule (FSS) Programs. These mission responsibilities generate requirements that are realized through the solicitation and award of various types of FAS contracts. Individual solicitations and resulting contracts may impose unique information collection and reporting requirements on contractors, not required by regulation, but necessary to evaluate particular program accomplishments and measure success in meeting program objectives.

As such, the General Services Administration Acquisition Regulation (GSAR) 516.506, Solicitation provision and clauses, specifically directs contracting officers to insert 552.216-72, Placement of Orders, and 552.216-73, Ordering Information, when the contract authorizes FAS and other activities to issue delivery or task orders. These clauses include information reporting requirements for Offerors to receive electronic orders through computer-to-computer Electronic Data Interchange (EDI).

B. Annual Reporting Burden

Respondents: 18,590.

Responses per Respondent: 1.

Annual Responses: 18,590.

Hours Per Response: .25.

Total Burden Hours: 4,648.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the Regulatory Secretariat Division by calling 202-501-4755 or emailing GSARegSec@gsa.gov. Please cite OMB Control No. 3090-0248, Solicitation Provisions and Contract Clauses, Placement of Orders Clause, and Ordering Information Clause, in all correspondence.

Jeffrey A. Koses,
Senior Procurement Executive, Office of Acquisition Policy, Office of Government-wide Policy.

[FR Doc. 2021-15746 Filed 7-22-21; 8:45 am]

BILLING CODE 6820-61-P